DEPARTMENT OF THE INTERIOR

Bureau of Land Management

[BLM_UT_FRN_MO4500181099]

Notice of Availability of the Proposed Resource Management Plan and Final Environmental Impact Statement for the Grand Staircase-Escalante National Monument in Utah

AGENCY: Bureau of Land Management, Interior.

ACTION: Notice of availability.

SUMMARY: In compliance with the National Environmental Policy Act of 1969, as amended (NEPA), and the Federal Land Policy and Management Act of 1976, as amended (FLPMA), the Bureau of Land Management (BLM) has prepared a Proposed Resource Management Plan (RMP) and Final Environmental Impact Statement (EIS) for the Grand Staircase-Escalante National Monument (GSENM) and by this notice is announcing the start of a 30-day protest period of the Proposed RMP.

DATES: This notice announces a 30-day protest period to the BLM on the Proposed RMP. Protests must be postmarked or electronically submitted on the BLM's ePlanning site within 30 days of the date that the Environmental Protection Agency (EPA) publishes its Notice of Availability (NOA) of the Proposed RMP and Final EIS in the Federal Register. The EPA usually publishes its NOAs on Fridays.

ADDRESSES: The Proposed RMP and Final EIS is available on the BLM ePlanning project website at https://eplanning.blm.gov/eplanning-ui/project/2020343/510. Documents pertinent to this proposal may be examined online at: https://eplanning.blm.gov/eplanning-ui/project/2020343/570 and at the BLM Paria River District Office, 669 US-89A, Kanab, Utah 84741.

Instructions for filing a protest with the BLM for the Grand Staircase-Escalante National Monument RMP/EIS can be found at: https://www.blm.gov/programs/planning-and-nepa/public-participation/filing-a-plan-protest and at 43 CFR 1610.5-2.

FOR FURTHER INFORMATION CONTACT: Scott M. Whitesides, Project Manager, telephone: 801-539-4054; address: Bureau of Land Management Utah, 440 West 200 South Suite 500, Salt Lake City, Utah 84101; email: swhitesides@blm.gov. Individuals in the United States who are deaf, deafblind, hard of hearing, or have a speech disability may dial 711 (TTY, TDD, or TeleBraille) to access telecommunications relay services for contacting Mr. Whitesides. Individuals outside the United States should use the relay services offered within their country to make international calls to the point-of-contact in the United States.

SUPPLEMENTARY INFORMATION: The planning area includes approximately 1.87 million acres of public land in Kane and Garfield counties in southern Utah. Management of GSENM is currently guided by the GSENM and Kanab Escalante Planning Area (KEPA) RMPs to the extent consistent with Presidential Proclamation 10286. Where the GSENM and KEPA RMPs conflict with Proclamation 10286, Proclamation 10286 controls.

The Final EIS evaluates five alternatives: the no action alternative (Alternative A) and four action alternatives (Alternatives B, C, D, and E) that are based on known use and issues in the planning area. Alternative B emphasizes flexibility in planning-level direction to maximize the potential for an array of discretionary actions that may be compatible with the protection of GSENM objects. Alternative C emphasizes the protection and maintenance of intact and resilient landscapes using a management area approach to selectively allow for discretionary uses in appropriate settings. Four management areas, similar to those used in the 2000 GSENM Monument Management Plan, would be established: the front country, passage, outback, and primitive. The BLM would use these areas to identify the allowable uses that meet the goals and objectives of the areas while also protecting GSENM objects. Alternative D strives to maximize natural processes by minimizing active management and limiting discretionary uses. Land use allocations would curtail discretionary uses, including recreation, livestock grazing, rights-of-ways, and activities under special recreation permits. This alternative would also constrain management actions to emphasize natural conditions, such as passive vegetation management. The State Director identified Alternative C as the preferred alternative in the Draft EIS.

The BLM received a total of 6,820 letter submissions during the public comment period on the Draft RMP/EIS, including 5,216 letters that contained non-unique, preformulated language that appeared in other letter submissions. There were 1,604 unique submissions, from which the BLM identified substantive comments. Most submissions were focused on suggestions for specific alternatives or alternative elements, statements of support or lack thereof for an alternative, and detailed input pertaining to various resource topics analyzed in the draft EIS, such as livestock grazing, travel and transportation, fish and wildlife, and vegetation.

Based on public comments on the Draft RMP/EIS, the BLM has prepared the Final EIS and developed new appendices that provide additional consistency, clarity, and accuracy. In Appendix J, the BLM has provided responses to substantive comments on the Draft RMP/EIS, proposed recreational shooting closures, and Areas of Critical Environment Concern/Research Natural Areas.

The BLM also developed the Proposed RMP (Alternative E) as presented in the Final EIS. Alternative E is based on Alternative C with a combination of components from the various other action alternatives, and as such, is within the range of alternatives considered in the Draft RMP/EIS. Alternative E was developed and refined based on consideration of public comments received during the 90-day comment period on the Draft RMP/EIS, consultation with cooperating agencies, government-to-government consultation with interested Tribal Nations, and updates to the best available science and information.

The primary changes from the Draft RMP/EIS to the Proposed RMP/Final EIS include: the addition of Alternative E and associated analysis; the use of updated assessment, inventory, and monitoring data to revise the list of departed watersheds (watersheds with a high degree of departure from reference conditions); supplemental Areas of Critical Environmental Concern and Research Natural Area nominations and evaluations; management of recreational shooting; the inclusion of public comment process, summary, and responses; the development of a monitoring plan; the inclusion of a final air quality emissions inventory; the completion and inclusion of the Old Spanish National Historic Trail Corridor Assessment and Inventory Report and associated management direction and analysis; and the review of applicable State and local land use plans for plan consistency.

Protest of the Proposed RMP

The BLM planning regulations state that any person who participated in the preparation of the RMP and has an interest that will or might be adversely affected by approval of the Proposed RMP may protest its approval to the BLM Director. Protest on the Proposed RMP constitutes the final opportunity for administrative review of the proposed land use planning decisions prior to the BLM adopting an approved RMP. Instructions for filing a protest regarding the Proposed RMP with the BLM Director may be found online at https://www.blm.gov/programs/planning-and-nepa/public-participation/filing-a-plan-protest and at 43 CFR 1610.5-2. All protests must be in writing and mailed to the appropriate address, as set forth in the ADDRESSES section earlier or submitted electronically through the BLM ePlanning project website as described previously. Protests submitted electronically by any means other than the ePlanning project website will be invalid unless a protest is also submitted as a hard copy. The BLM Director will render a written decision on each protest. The Director's decision shall be the final decision of the Department of the Interior. Responses to valid protest issues will be compiled and documented in a Protest Resolution Report made available following the protest resolution online at: https://www.blm.gov/programs/planning-and-nepa/public-participation/protest-resolution-reports. Upon resolution of protests, the BLM will issue a Record of Decision and Approved RMP.

Before including your phone number, email address, or other personal identifying information in your protest, you should be aware that your entire protest—including your personal identifying information—may be made publicly available at any time. While you can ask us in your protest to withhold your personal identifying information from public review, we cannot guarantee that we will be able to do so.

(Authority: 40 CFR 1506.6, 40 CFR 1506.10, 43 CFR 1610.2, 43 CFR 1610.5)

Gregory Sheehan,
BLM Utah State Director.

[FR Doc. 2024-19486 Filed 8-29-24; 8:45 am]

BILLING CODE 4331-25-P